DEPARTMENT OF COMMERCE

International Trade Administration

[A-570-848]

Freshwater Crawfish Tail Meat From the People's Republic of China: Rescission of Antidumping Duty Administrative Review in Part; 2014-2015

AGENCY: Enforcement and Compliance, International Trade Administration, Department of Commerce.

SUMMARY: The Department of Commerce (the Department) is rescinding its administrative review in part on freshwater crawfish tail meat from the People's Republic of China for the period of review (POR) September 1, 2014, through August 31, 2015.

DATES: Effective Date: March 23, 2016.

FOR FURTHER INFORMATION CONTACT: Hermes Pinilla, AD/CVD Operations Office I, Enforcement and Compliance, International Trade Administration, U.S. Department of Commerce, 1401 Constitution Avenue NW., Washington, DC 20230; telephone: (202) 482-3477.

SUPPLEMENTARY INFORMATION:

Background

On September 1, 2015, we published a notice of opportunity to request an administrative review of the antidumping duty order on freshwater crawfish tail meat from the People's Republic of China for the POR September 1, 2014, through August 31, 2015.¹ On November 9, 2015, in response to timely requests from the petitioners,² China Kingdom (Beijing) Import & Export Co., Ltd, Deyan Aquatic Products and Food Co., Ltd (Deyan), and Xuzhou Jinjiang Foodstuff Co., Ltd, and in accordance with section 751(a) of the Tariff Act of 1930, as amended (the Act), and 19 CFR 351.221(c)(1)(i), we initiated an administrative review of the antidumping duty order on freshwater crawfish tail meat from the People's Republic of China with respect to nine companies.³ On February 2, 2016, the petitioners withdrew their request for an administrative review for six out of nine companies, Deyan, Hubei Yuesheng Aquatic Products Co., Ltd., Nanjing Gemsen International Co., Ltd., Weishan Hongda Aquatic Food Co., Ltd., Xiping Opeck Food Co., Ltd., and Yancheng Hi-King Agriculture Developing Co., Ltd.⁴ On February 11, 2016, Deyan withdrew its request for an administrative review.⁵

¹ See Antidumping or Countervailing Duty Order, Finding, or Suspended Investigation; Opportunity To Request Administrative Review, 80 FR 52741 (September 1, 2015).

² Crawfish Processors Alliance (collectively, the petitioners).

³ See Initiation of Antidumping and Countervailing Duty Administrative Reviews, 80 FR 69193 (November 9, 2015).

⁴ See letter from the petitioners to the Department, “Freshwater Crawfish Tail Meat from the People's Republic of China: Withdrawal of Certain Requests for 2014-15 Administrative Review” dated February 2, 2016.

⁵ See letter from Deyan to the Department titled, “Re: Freshwater Crawfish Tail Meat from the People's Republic of China Withdrawal of Request for Review” dated February 11, 2016.

On January 27, 2016, the Department exercised its discretion to toll its administrative deadlines due to the closure of the Federal Government. Thus, the deadline for withdrawing a request for an administrative review was extended by four business days. The revised deadline for withdrawing an administrative review was February 12, 2016.⁶ Therefore, Deyan's withdrawal request for an administrative review was timely.

⁶ See Memorandum to the Record from Ron Lorentzen, Acting A/S for Enforcement & Compliance, regarding “Tolling of Administrative Deadlines As a Result of the Government Closure During Snowstorm `Jonas' ” dated January 27, 2016.

Rescission of Administrative Review in Part

Pursuant to 19 CFR 351.213(d)(1), the Department will rescind an administrative review, “in whole or in part, if a party that requested a review withdraws the request within 90 days of the date of publication of notice of initiation of the requested review.” Because the petitioners and Deyan withdrew their review requests in a timely manner, and because no other party requested a review of these companies, we are rescinding the administrative review in part with respect to the aforementioned six companies.

Assessment

The Department will instruct U.S. Customs and Border Protection (CBP) to assess antidumping duties on all appropriate entries. For the aforementioned companies, for which the review is rescinded, antidumping duties shall be assessed at rates equal to the cash deposit of estimated antidumping duties required at the time of entry, or withdrawal from warehouse, for consumption, in accordance with 19 CFR 351.212(c)(1)(i). The Department intends to issue appropriate assessment instructions to CBP within 15 days after publication of this notice.

Notifications to Importers

This notice serves as a final reminder to importers of their responsibility under 19 CFR 351.402(f)(2) to file a certificate regarding the reimbursement of antidumping duties prior to liquidation of the relevant entries during this review period. Failure to comply with this requirement may result in the Department's presumption that reimbursement of antidumping duties occurred and the subsequent assessment of doubled antidumping duties.

Notification Regarding Administrative Protective Orders

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: March 18, 2016.
Christian Marsh,
Deputy Assistant Secretary for Antidumping and Countervailing Duty Operations.

[FR Doc. 2016-06574 Filed 3-22-16; 8:45 am]

BILLING CODE 3510-DS-P